DEFENSE BASE CLOSURE AND REALIGNMENT COMMISSION

Notice of Intent To Consider Bases Not Included on the List of Bases Recommended by the Secretary of Defense for Closure or Realignment

AGENCY: Defense Base Closure and Realignment Commission.

SUMMARY: The Defense Base Closure and Realignment Act of 1990 (Pub. L. 101-510), as amended (Base Closure Act), authorizes the Defense Base Closure and Realignment Commission (Commission) to consider the closure or realignment of bases not recommended for such action by the Secretary of Defense (Secretary), or to increase the extent of realignment of bases recommended for realignment by the Secretary. Section 2903 of the Base Closure Act requires the Commission to notify the public of a decision to add a base to the list recommended by the Secretary for consideration by publication in the Federal Register not less than 45 days prior to transmitting the Commission's report to the President. This notice is provided to meet that requirement. The proposed changes to the list recommended by the Secretary are described in the SUPPLEMENTARY INFORMATION section of this notice.

DATES: Effective July 21, 2005.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street, Suite 600, Arlington, Virginia 22202-3920. The Commission requests that public comments be directed toward matters bearing on the decision criteria described in the Base Closure Act, available on the Commission Web site. Sections 2912 through 2914 of that Act describe the criteria and many of the essential elements of the 2005 BRAC process. For questions regarding this announcement, contact Mr. Dan Cowhig, Deputy General Counsel and Designated Federal Officer, at the Commission's mailing address or by telephone at (703) 699-2950 or 2708.

SUPPLEMENTARY INFORMATION: In an open meeting held in Washington, DC on May 19, 2005, the Commission decided the following:

—Naval Air Station Brunswick, Maine will be considered for closure or to increase the extent of realignment.

—Navy Broadway Complex, San Diego, California will be added to the list of installations to be considered by the Commission for closure or realignment.

—Naval Air Station Oceana, Virginia will be considered for closure or to increase the extent of realignment.

—Pope Air Force Base, North Carolina will be considered for closure or to increase the extent of realignment.

—Galena Airport Forward Operating Location, Alaska will be considered for closure or to increase the extent of realignment.

—Defense Finance and Accounting Service, Buckley Annex, Colorado; Defense Finance and Accounting Service, Columbus, Ohio; and Defense Finance and Accounting Service, Indianapolis, Indiana will be added to the list of installations to be considered by the Commission for closure or realignment.

—Naval Postgraduate School, Monterey, California; Defense Language Institute, Monterey, California; and Air Force Institute of Technology, Wright Patterson Air Force Base, Ohio will be added to the list of installations to be considered by the Commission for closure or realignment.

—Bureau of Navy Medicine, Potomac Annex, District of Columbia; Air Force Medical Command, Bolling Air Force Base, District of Columbia; and Tricare Management Activity; Offices of The Surgeons General, Military Departments; and Office of The Secretary of Defense, Health Affairs, all in leased space, Virginia, will be added to the list of installations to be considered by the Commission for closure or realignment.

Dated: July 20, 2005.
Jeannette Owings-Ballard,
Administrative Support Officer.

[FR Doc. 05-14596 Filed 7-20-05; 2:53 pm]

BILLING CODE 5001-06-P